CIVIL RIGHTS COLD CASE RECORDS REVIEW BOARD

[Agency Docket Number: CRCCRRB-2025-0001-N]

Notice of Formal Determination on Records Release

AGENCY: Civil Rights Cold Case Records Review Board.

ACTION: Notice.

SUMMARY: The National Archives and Records Administration (NARA) provided 69 pages of records to the Civil Rights Cold Case Records Review Board related to a civil rights cold case incident to which the Review Board assigned the unique identifier 2023-001-001. NARA did not propose any postponements of disclosure. On October 1, 2024, the Review Board determined that the records should be publicly disclosed in the Civil Rights Cold Case Records Collection. By issuing this notice, the Review Board complies with section 7(c)(4) of the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

Authority: Pub. L. 115-426, 132 Stat. 5489 (44 U.S.C. 2107).

Dated: October 2, 2024.
Stephannie Oriabure,
Chief of Staff.

[FR Doc. 2024-23128 Filed 10-4-24; 8:45 am]

BILLING CODE 6820-SY-P